DEPARTMENT OF DEFENSE

Department of the Army; Corps of Engineers

Intent to Prepare a Joint Supplemental Environmental Impact Statement/Supplemental Environmental Impact Report for the San Luis Rey River Flood Control Project, Operations and Maintenance Plan; San Diego County, CA

Correction

In notice document 05-4177 beginning on page 10608 in the issue of Friday, March 4, 2005, make the following correction:

On page 10608, in the third column, in the DATES section, “April 4, 2008” should read, “April 4, 2005.”

[FR Doc. C5-4177 Filed 3-11-05; 8:45 am]

BILLING CODE 1505-01-D

DEPARTMENT OF THE TREASURY

Internal Revenue Service

26 CFR Part 1

[TD 9187]

RIN 1545-BA52

Loss Limitation Rules

Correction

In rule document 05-3951 beginning on page 10319 in the issue of Thursday, March 3, 2005, make the following corrections:

§ 1.1502-20 [Corrected]

1. On page 10323, in § 1.1502-20, in the first column, in paragraph (i)(3)(iii)(D)(1), in the first line, “(1) Limitations” should read “(1) Limitations”.

2. On the same page, in the same section, in the second column, in paragraph (i)(3)(iii)(D)(2), in the first line, “(2) Manner” should read “(2) Manner”.

3. On the same page, in the same section, in the same column, in paragraph (i)(3)(iii)(D)(3), in the first line, “(3) Manner” should read “(3) Manner”.

4. On the same page, in the same section, in the same column, in paragraph (i)(3)(iii)(D)(4), in the first line, “(4) Prohibition” should read “(4) Prohibition”.

[FR Doc. C5-3951 Filed 3-11-05; 8:45 am]

BILLING CODE 1505-01-D

SECURITIES AND EXCHANGE COMMISSION

[Release No. 34-51239; File No. SR-Phlx-2005-13]

Self-Regulatory Organizations; Philadelphia Stock Exchange, Inc.; Notice of Filing and Immediate Effectiveness of Proposed Rule Change Relating to SIG Indices, LLLP

February 22, 2005.

Correction

In notice document E5-800 beginning on page 10015 in the issue of Tuesday, March 1, 2005, make the following correction:

On page 10017, in the first column, in the first paragraph, in the last line, “March 21, 2005” should read “March 22, 2005”.

[FR Doc. Z5-800 Filed 3-11-05; 8:45 am]

BILLING CODE 1505-01-D